DEPARTMENT OF STATE

[Public Notice: 9235]

Foreign Affairs Policy Board Charter Renewal

AGENCY: Department of State.

Charter Renewal

In accordance with the provisions of the Federal Advisory Committee Act, 5 U.S.C. App., the Department of State announces the Charter of the Foreign Affairs Policy Board, established July 2011, was renewed for a two-year period. The Board is established under the general authority of the Secretary of State and the Department of State set forth in title 22 of the United States Code, in particular Section 2656 of that Title, and consistent with the Federal Advisory Committee Act, as amended (5 U.S.C., Appendix).

The Foreign Affairs Policy Board was established to provide the Secretary of State, the Deputy Secretaries of State, and the Director of Policy Planning with independent, informed advice and opinions concerning matters of U.S. foreign policy. It is comprised of twenty-five distinguished U.S. citizens from the private sector, nongovernmental organizations, think tanks, and academia.

For more information, contact FAPB@state.gov.

Dated: June 29, 2015.
Andrew McCracken,
Designated Federal Officer.

[FR Doc. 2015-21168 Filed 8-25-15; 8:45 am]

BILLING CODE 4710-10-P